DEPARTMENT OF LABOR

Occupational Safety and Health Administration

[Docket No. ICR 1218-0176 (2000)]

Proposed Information Collection Request Submitted for Public Comment and Recommendations; 29 CFR Part 1904 Recording and Reporting Occupational Injuries and Illnesses (1218-0176)

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA 95) (44 U.S.C. 3506(c)(2)(A)). This program helps to ensure that requested data can be provided in the desired format, reporting burden (time and financial resources) is minimized, collection instruments are clearly understood, and impact of collection requirements on respondents can be properly assessed. The Occupational Safety and Health Administration (OSHA) is soliciting comments concerning the proposed extension of approval for the current paperwork requirements of 29 CPR part 1904, Recording and Reporting Occupational Injuries and Illnesses (less 1904.8, Reporting of Fatality or Multiple Hospitalization Incidents). The Agency is in the process of revising these recordkeeping requirements and expects to implement a revised injury and illness recordkeeping system. If the Agency is unable to implement the revised system in January, 2001, it will need to continue the current injury and illness recordkeeping system. For this reason, OSHA will request OMB reauthorization of the existing Part 1904 under the PRA, and is asking for public comment on burden estimates, practical utility, and other paperwork issues concerning OSHA's existing recordkeeping requirements.

DATES: Written comments must be submitted on or before September 5, 2000. Written comments should:

• Evaluate whether the proposed collection of information is necessary for the proper performance of the functions of the Agency, including whether the information will have practical utility;

• Evaluate the accuracy of the Agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

ADDRESSES: Comments are to be submitted to the Docket Office, Docket No. ICR 1218-0176 (2000), U.S. Department of Labor, Room N-2625, 200 Constitution Avenue, NW, Washington, DC 20210, telephone: (202) 693-2350. Written comments limited to 10 pages or less in length may be transmitted by facsimile to (202) 693-1648.

FOR FURTHER INFORMATION CONTACT: Dave Schmidt, Office of Statistics, Directorate of Information Technology, Occupational Safety and Health Administration, U.S. Department of Labor, Room N3507, 200 Constitution Avenue, NW, Washington, DC 20210, telephone: (202) 693-1886. Copies of the referenced information collection request are available for inspection and copying in the Docket Office and will be mailed to persons who request copies by telephoning Dave Schmidt at (202) 693-1886 or Todd Owen at (202) 693-2444. For electronic copies of this information collection request, contact OSHA's Web Page on the Internet at http://www.osha-slc.gov/OCIS/Info_coll.html.

SUPPLEMENTARY INFORMATION:

I. Background

The Occupational Safety and Health Act (OSH Act) and 29 CFR part 1904 prescribe that certain employers maintain records of job related injuries and illnesses. The injury and illness records are intended to have multiple purposes. One purpose is to provide data needed by OSHA to carry out enforcement and intervention activities to provide workers a safe and healthy work environment. The data are also needed by the Bureau of Labor Statistics to report on the number and rate of occupational injuries and illnesses in the country.

The data also provide to employers and employees information about the kinds of injuries and illnesses occurring in the workplace and their related hazards. Increased employer awareness should result in the identification and voluntary correction of hazardous workplace conditions. Likewise, employees who are provided information on injuries and illnesses will be more likely to follow safe work practices and report workplace hazards. Such increased awareness would generally raise the overall level of safety and health in the workplace.

OSHA currently has approval from the Office of Management and Budget (OMB) for information collection requirements contained in 29 CFR part 1904. That approval will expire on December 31, 2000, unless OSHA applies for an extension of the OMB approval. This notice initiates the process of OSHA to request an extension of the current OMB approval. This notice also solicits public comment on OSHA's existing paperwork burden estimates from those interested parties and seeks public response to several questions related to the development of OSHA's estimation. Interested parties are requested to review OSHA's estimates, which are based upon the most current data available, and to comment on their accuracy or appropriateness in today's workplace situation.

29 CFR 1904.8, Reporting of Fatality or Multiple Hospitalization Incidents (OMB control number 1218-0007) is under a separate Information Collection Request (ICR) package.

II. Current Actions

This notice request public comment on an extension of the current OMB approval of the paperwork requirements in 28 CFR part 1904, Recording and Reporting Occupational Injuries and Illnesses.

Type of Review: Extension of currently approved collection.

Agency: U.S. Department of Labor, Occupational Safety and Health Administration.

Title: Recording and Reporting Occupational Injuries and Illnesses.

OMB Number: 1218-0176.

Agency Number: ICR 1218-0176 (2000).

Frequency: Recordkeeping.

Affected Public: Business or other for-profit; Farms; Not-for-profit institutions; State and Local Government.

Cite/Reference/Form/etc: 29 CFR part 1904; OSHA No. 200; OSHA No. 101.

Number of Respondents: 1,395,516.

Estimated Time Per Respondent: 1,395,516.

Total Burden Hours: 2,070,008 hours.

Comments submitted in response to this notice will be summarized and/or included in the request for Office of Management and Budget approval of the information collection request. They will also become a matter of public record.

Dated: July 3, 2000.
Charles N. Jeffress,
Assistant Secretary for Occupational Safety and Health.

[FR Doc. 00-17266 Filed 7-6-00; 8:45 am]

BILLING CODE 4510-26-M